DEPARTMENT OF ENERGY

Federal Energy Regulatory Commission

[Docket No. CP18-508-000]

Columbia Gas Transmission, LLC; Notice of Schedule for Environmental Review of the Line Ka1 North Launcher/Receiver Project

On June 20, 2018, Columbia Gas Transmission, LLC (Columbia) filed an application in Docket No. CP18-508-000 requesting a Certificate of Public Convenience and Necessity pursuant to Section 7(c) of the Natural Gas Act to construct and operate certain natural gas pipeline facilities. The proposed project is known as the Line KA1 North Launcher/Receiver Project (Project), and would modify seven discrete points and install two bi-directional launcher/receivers on Columbia's existing Line KA1 North pipeline.

On July 5, 2018, the Federal Energy Regulatory Commission (Commission or FERC) issued its Notice of Application for the Project. Among other things, that notice alerted agencies issuing federal authorizations of the requirement to complete all necessary reviews and to reach a final decision on a request for a federal authorization within 90 days of the date of issuance of the Commission staff's Environmental Assessment (EA) for the Project. This instant notice identifies the FERC staff's planned schedule for the completion of the EA for the Project.

Schedule for Environmental Review

Issuance of EA December 5, 2018

90-day Federal Authorization Decision Deadline March 5, 2019

If a schedule change becomes necessary, additional notice will be provided so that the relevant agencies are kept informed of the Project's progress.

Project Description

In order to enable the use of internal inspection tools along the KA1 North pipeline for integrity assessment purposes, Columbia would install one 16-inch by 12-inch launcher/receiver at each end of the pipeline; and remove, replace, and install various stopples, elbows, valves, pipe segments, and other components at a total of seven discrete points along the pipeline in Fayette and Madison Counties, Kentucky.

Background

On August 3, 2018, the Commission issued a Notice of Intent to Prepare an Environmental Assessment for the Proposed Line KA1 North Launcher/Receiver Project and Request for Comments on Environmental Issues (NOI). The NOI was sent to affected landowners; federal, state, and local government agencies; elected officials; environmental and public interest groups; Native American tribes; other interested parties; and local libraries and newspapers. In response to the NOI, the Commission received comments from two Native American tribes. The primary issues raised by the commentors pertain to cultural resources. All substantive comments will be addressed in the EA.

Additional Information

In order to receive notification of the issuance of the EA and to keep track of all formal issuances and submittals in specific dockets, the Commission offers a free service called eSubscription. This can reduce the amount of time you spend researching proceedings by automatically providing you with notification of these filings, document summaries, and direct links to the documents. Go to www.ferc.gov/docs-filing/esubscription.asp.

Additional information about the Project is available from the Commission's Office of External Affairs at (866) 208-FERC or on the FERC website (www.ferc.gov). Using the “eLibrary” link, select “General Search” from the eLibrary menu, enter the selected date range and “Docket Number” excluding the last three digits (i.e., CP18-508), and follow the instructions. For assistance with access to eLibrary, the helpline can be reached at (866) 208-3676, TTY (202) 502-8659, or at FERCOnlineSupport@ferc.gov. The eLibrary link on the FERC website also provides access to the texts of formal documents issued by the Commission, such as orders, notices, and rule makings.

Dated: October 16, 2018.
Kimberly D. Bose,
Secretary.

[FR Doc. 2018-23113 Filed 10-22-18; 8:45 am]

BILLING CODE 6717-01-P